DEPARTMENT OF ENERGY

Federal Energy Regulatory Commission

[Project No. 176-018 & Project No. 176-035 California]

City of Escondido Vista Irrigation District; Notice of Availability of Environmental Assessment

In accordance with the National Environmental Policy Act of 1969 and the Federal Energy Regulatory Commission's regulations, 18 CFR Part 380 (Order No. 486, 52 FR 47897), the Office of Energy Projects has reviewed the application for conduit exemption from licensing for the Bear Valley Powerhouse Project, to be located on the San Luis Rey River near the city of Escondido, California, and the application for surrender of license for the Escondido Hydroelectric Project, currently located on the San Luis Rey River. The Bear Valley Powerhouse Project is part of the existing Escondido Hydroelectric Project. Commission staff has prepared an Environmental Assessment (EA) that analyzes the potential environmental effects of the conduit exemption and surrender and concludes that issuing a conduit exemption for the Bear Valley Powerhouse Project and granting the surrender of the Escondido Hydroelectric Project, with appropriate environmental measures, would not constitute a major federal action significantly affecting the quality of the human environment.

A copy of the EA is on file with the Commission and is available for public inspection. The EA may also be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659.

You may also register online at http://www.ferc.gov/esubscribenow.htm to be notified via email of new filings and issuances related to this or other pending projects. For assistance, contact FERC Online Support at FERCOnlineSupport@ferc.gov or toll-free at 1-(866) 208-3676, or for TTY, (202) 502-8659.

Please contact Carolyn Templeton by telephone at (202) 502-8785 or by email at carolyn.templeton@ferc.gov if you have any questions.

Dated: November 23, 2011.
Kimberly D. Bose,
Secretary.

[FR Doc. 2011-30872 Filed 11-30-11; 8:45 am]

BILLING CODE 6717-01-P